DEPARTMENT OF THE INTERIOR

Bureau of Land Management

[CA-680-1430-ET; CACA 50194]

Notice of Proposed Legislative Withdrawal and Opportunity for Public Meeting; California

AGENCY: Bureau of Land Management, Interior.

ACTION: Notice of withdrawal application and segregation.

SUMMARY: The Act of February 28, 1958 (43 U.S.C. 155-158), sometimes referred to as the Engle Act, places on the Secretary of the Interior the responsibility to process Department of Defense applications for national defense withdrawals, reservations or restrictions aggregating 5,000 acres or more for any one project or facility. These withdrawals, reservations or restrictions may only be made by an act of Congress, except in time of war or national emergency declared by the President or the Congress and except as otherwise expressly provided in the Act of February 28, 1958.

The U.S. Department of the Navy, in accordance with the Engle Act, has filed an application requesting the Secretary of the Interior to process a proposed legislative withdrawal and reservation of public lands for military training exercises involving the Marine Corps Air Ground Combat Center at Twentynine Palms, San Bernardino County, California. The proposal seeks the transfer of jurisdiction and the withdrawal of approximately 365,906 acres of public lands and approximately 507 acres of Federal subsurface mineral estate from all forms of appropriation under the public land laws, including surface entry, mining, mineral leasing, and the Materials Act of 1947.

This notice temporarily segregates for two years the public lands and mineral estate described from settlement, sale, location, or entry under the public land laws, including the mining laws, and the operation of the mineral leasing laws and the Materials Act of 1947. In addition, the surface estate of the 507 acres of mineral estate and the surface and mineral estate of an approximately 72,186 acres of other non-federally owned property in the proposed withdrawal area, if they should be acquired by or returned to the United States by any means, would also be included in the proposed withdrawal and subject to the temporary segregation authorized by this notice.

DATES: Comments should be received on or before December 15, 2008. In addition, at least one public meeting will be held during the comment period to help the public understand both the proposed action and the decision-making processes. The public meeting will be announced at least 30 days in advance through local news media, public notices, mailings, and agency Web sites.

ADDRESSES: Comments should be sent to Roxie Trost, Field Manager, Barstow Field Office, 2601 Barstow Road, Barstow, California 92311.

FOR FURTHER INFORMATION CONTACT: Roxie Trost, BLM Barstow Field Office, 760-252-6000; or Joseph Ross, USMC MCAGCC, 760-830-7683.

SUPPLEMENTARY INFORMATION: Acting on behalf of the U.S. Marine Corps (USMC), the Department of the Navy has filed an application with the Bureau of Land Management (BLM) requesting the Secretary of the Interior to process a legislative withdrawal pursuant to the Engle Act (43 U.S.C. 155-158). The proposal would withdraw the following areas, as described below, and located adjacent to the exterior boundaries of the USMC's Marine Corps Air Ground Combat Center (MCAGCC), located in Twentynine Palms, California:

1. Federally owned surface and mineral estate: Subject to valid existing rights, the following described federally owned surface and mineral estate are withdrawn from settlement, sale, location or entry under the public land laws, including the mining laws, and to the operation of the mineral leasing laws and the Materials Act of 1947:

All Are San Bernardino Meridian

Western Expansion Area

T. 4 N., R. 2 E.,

Sec. 1, all;

Sec. 2, lots 3 to 90, inclusive.

T. 5 N., R. 2 E.,

Secs. 1 to 2, all, inclusive;

Secs. 11 to 14, all, inclusive;

Secs. 23 to 26, all, inclusive;

Sec. 35, all.

T. 6 N., R. 2 E.,

Sec. 1, SE¼;

Sec. 12, E½;

Sec. 13, all;

Secs. 23 to 26, all, inclusive;

Sec. 35, all.

T. 4 N., R. 3 E.,

Sec. 1, lots 1 and 2 of NE¼, lots 1 and 2 of NW¼, NW¼SW¼, and SE¼;

Sec. 2, all;

Sec. 3, E½ of lot 1 of NE¼, lot 2 of NE¼, lot 2 of NW¼, and S½S½;

Sec. 4, lots 1 and 2 of NE¼, lots 1 and 2 of NW¼, SW¼, and S½SE¼;

Secs 5 to 6, all, inclusive;

Sec. 7, E½;

Secs. 8 to 9, all, inclusive;

Sec. 10, N½N½;

Sec. 11, N½ and SW¼;

Sec. 12, N½ and SE¼;

Sec. 13, S½;

Sec. 14, SE¼;

Sec. 15, N½.

T. 5 N., R. 3 E.,

Secs. 2 to 6, all, inclusive;

Sec. 8, E½;

Secs. 9 to 15, all, inclusive;

Sec. 16, N½ and SE¼;

Sec. 17, NE¼;

Sec. 21, E½;

Secs. 22 to 28, all, inclusive;

Sec. 29, NE¼;

Sec. 33, all;

Sec. 34, W½;

Sec. 35, NE¼; and the following whole or partial sections which are all protracted

Sec. 7, all;

Sec. 8, W½;

Sec. 16, SW¼;

Sec. 17, NW¼ and S½;

Secs. 18 to 20, all, inclusive;

Sec. 21, W½;

Sec. 29, NW¼ and S½;

Secs. 30 to 32, all, inclusive;

Sec. 34, E½;

Sec. 35, NW¼ and S½;

Sec. 36, SW¼.

T. 6 N., R. 3 E.,

Sec. 1, all except for S½ of lot 4;

Secs. 2 to 3, all, inclusive;

Sec. 4, all except for Mineral Survey no. 6716;

Secs. 5 to 9, all, inclusive;

Secs. 10 to 11, all except for Mineral Survey no. 6717, inclusive;

Secs. 12 to 15, all, inclusive;

Secs. 17 to 24, all, inclusive;

Secs. 26 to 30, all, inclusive;

Sec. 31, all except for Mineral Survey no. 5878;

Secs. 32 to 35, all, inclusive.

T. 3 N., R. 4 E.,

Sec. 1, all.

T. 4 N., R. 4 E.,

Secs. 1 to 15, all, inclusive;

Sec. 17, all;

Sec. 18, N½;

Sec. 20, N½;

Secs. 21 to 27, all, inclusive;

Sec. 28, N½;

Secs. 34 to 35, all, inclusive.

T. 5 N., R. 4 E.,

Secs. 2 to 11, all, inclusive;

Sec. 12, all except for Mineral Survey no. 6336;

Sec. 13, E½, E½E½NW¼, E½SW¼, and E½W½SW¼;

Secs. 14 to 16, all, inclusive;

Sec. 17, NW¼ and S½;

Secs. 18 to 24, all, inclusive;

Sec. 25, N½, SW¼, and W½SE¼;

Sec. 26, lots 1 to 4, inclusive, NW¼, and SE¼;

Sec. 27, N½ and SW¼;

Secs. 28 to 33, all, inclusive;

Sec. 34, W½;

Sec. 35, E½;

Sec. 36, all; and the following partial sections which are all protracted

Sec. 26, SW¼;

Sec. 27, SE¼;

Sec. 34, E½;

Sec. 35, W½.

T. 6 N., R. 4 E.,

Secs. 1 to 15, all, inclusive;

Secs. 17 to 24, all, inclusive;

Sec. 26, all;

Secs. 27 to 28, all except for Mineral Survey nos. 3000 and 3980, inclusive;

Secs. 29 to 35, all, inclusive;

Sec. 36, N½ and SW¼.

T. 3 N., R. 5 E.,

Secs. 1 to 3, all, inclusive;

Sec. 4, lots 1 to 12, inclusive;

Secs. 5 to 6, all, inclusive;

Sec. 9, lots 1 and 2, W½NE¼, NE¼NW¼, E½NW¼NW¼, E½W½NW¼NW¼, W½SW¼NW¼NW¼, NE¼SW¼NW¼, W½SW¼NW¼, W½SE¼SW¼NW¼, E½SE¼NW¼, W½NW¼SE¼NW¼, and E½SW¼SE¼NW¼;

Sec. 10, lots 1 to 7, inclusive, SW¼NE¼, S½ NW¼, and W½SW¼.

Sec. 11, all;

Sec. 12, lots 1 to 12, inclusive, NE¼NE¼SE¼, E½W½NE¼SE¼, E½NE¼NW¼SE¼, E½W½NW¼SE¼, W½SE¼NW¼SE¼, W½E½SW¼SE¼, NW¼SW¼SE¼, SW¼SE¼SE¼, and W½SE¼SE¼SE¼.

T. 4 N., R. 5 E.,

Secs. 2 to 9, all, inclusive;

Secs. 11 to 12, all, inclusive;

Sec. 16, all; and the following sections which are all protracted

Sec. 10, all;

Secs. 13 to 35, all, inclusive.

T. 5 N., R. 5 E.,

Secs. 4 to 5, all, inclusive;

Sec. 6, lots 1 to 10, inclusive, SE¼NW¼, E½SW¼, N½SE¼, and SW¼SE¼;

Sec. 7, lots 1 to 4, inclusive, lots 6 to 7, inclusive, S½NE¼, SE¼NW¼, E½SW¼, and SE¼;

Sec. 8, all;

Secs. 14 to 15, all, inclusive;

Secs. 18 to 20, all, inclusive;

Secs. 22 to 23, all, inclusive;

Secs. 26 to 28, all, inclusive;

Secs. 30 to 32, all, inclusive;

Secs. 34 to 35, all, inclusive.

T. 6 N., R. 5 E.,

Secs. 17 to 20, all, inclusive;

Secs. 29 to 32, all, inclusive.

Southern Expansion Area

T. 2 N., R. 9 E.,

Sec. 25, all;

Sec. 26, all except for N½NW¼SW¼SW¼;

Sec. 27, E½ except for W½SE¼SE¼SE¼;

Sec. 34, S½NE¼NE¼NE¼, SE¼NE¼NE¼, W½NE¼NE¼, NW¼NE¼, N½SW¼NE¼, W½SE¼SE¼NE¼, W½SW¼SW¼NE¼, N½N½SE¼NE¼, E½NW¼, E½NE¼NE¼SW¼, W½W½NW¼SE¼, W½SE¼NE¼SW¼, NE¼NE¼SW¼, SW¼NE¼SW¼, N½NE¼SE¼, SE¼NE¼SE¼, E½SW¼NE¼SE¼;

Sec. 35, N½ except for N½NE¼NE¼NE¼ and S½SW¼NW¼NE¼.

T. 2 N., R. 10 E.,

Secs. 2 to 11, all, inclusive;

Sec. 14, that portion lying north and west of the boundary of the Cleghorn Lakes Wilderness Area;

Sec. 15, all;

Secs. 17 to 22, all, inclusive;

Sec. 23, that portion lying west of the boundary of the Cleghorn Lakes Wilderness Area;

Sec. 26, that portion lying west and south of the boundary of the Cleghorn Lakes Wilderness Area;

Secs. 27 to 35, all, inclusive.

Eastern Expansion Area

T. 4 N., R. 11 E.,

Secs. 1 to 2, all, inclusive;

Secs. 11 to 12, all, inclusive;

Sec. 14, all.

T. 5 N., R. 11 E.,

Secs. 1 to 2, all, inclusive;

Secs. 11 to 14, all, inclusive;

Secs. 23 to 26, all, inclusive;

Sec. 35, all.

T. 6 N., R. 11 E.,

Sec. 35, that portion lying south of the Historic Route 66 Corridor.

T. 3 N., R. 12 E.,

Secs. 1 to 3, all, inclusive;

Secs. 10 to 15, all, inclusive;

Secs. 22 to 24, all, inclusive;

Sec. 25, that portion lying west of the boundary of the Sheephole Valley Wilderness Area;

Secs. 26 to 27, all, inclusive;

Sec. 34, that portion lying north and east of the boundary of Cleghorn Lakes Wilderness Area;

Sec. 35, all, inclusive.

T. 4 N., R. 12 E.,

Secs. 1 to 8, all, inclusive;

Secs. 10 to 12, all, inclusive;

Secs. 14 to 15, all, inclusive;

Sec. 18, all except for Mineral Survey no. 5802;

Sec. 19, N½ except for Mineral Survey nos. 5802 and 5805;

Sec. 21, E½;

Secs. 23 to 27, all, inclusive;

Sec. 28, E½;

Secs. 34 to 35, all, inclusive.

T. 5 N., R. 12 E.,

Sec. 2, that portion lying south of the Historic Route 66 Corridor;

Secs. 3 to 4, those portions lying south of the Historic Route 66 Corridor except for the lands conveyed to U. S. Gypsum Company by patent number 1000677, inclusive;

Sec. 5, lots 3 to 4, inclusive, lots 15 to 22, inclusive, and lots 31 to 38, inclusive;

Sec. 6, that portion lying south of the Historic Route 66 Corridor;

Sec. 7, all;

Sec. 8, all except for the land conveyed to U. S. Gypsum Company by patent number 1000678;

Sec. 9, all;

Secs. 10 to 11, all except the lands conveyed to U. S. Gypsum Company by patent number 1000677, inclusive;

Secs. 12 to 15, all, inclusive;

Sec. 17, all except the lands conveyed to U. S. Gypsum Company by patent number 1000678;

Sec. 18, all;

Secs. 19 to 20, all except the lands conveyed to U. S. Gypsum Company by patent number 1000678, inclusive;

Secs. 21 to 27, all, inclusive;

Sec. 28, N½ and SW¼;

Secs. 29 to 30, all except the lands conveyed to U. S. Gypsum Company by patent number 1000678, inclusive;

Secs. 31 to 35, all, inclusive.

T. 3 N., R. 13 E.,

Sec. 4, that portion lying west of the Sheephole Valley Wilderness Area;

Secs. 5 to 7, all, inclusive;

Sec. 8, that portion lying west of the Sheephole Valley Wilderness Area;

Secs. 17 to 19, those portions lying west of the Sheephole Valley Wilderness Area, inclusive.

T. 4 N., R. 13 E.,

Secs. 1 to 4, all, inclusive;

Secs. 6 to 15, all, inclusive;

Secs. 17 to 22, all, inclusive;

Secs. 23 to 24, those portions lying northwesterly of the Sheephole Valley Wilderness Area, inclusive;

Sec. 27, that portion lying northwesterly of the Sheephole Valley Wilderness Area;

Secs. 28 to 32, all, inclusive;

Secs. 33 to 34, that portion lying northwesterly of the Sheephole Valley Wilderness Area, inclusive.

T. 5 N., R. 13 E.,

Secs. 2 to 4, all, inclusive;

Secs. 6 to 8, all, inclusive;

Secs. 10 to 12, all, inclusive;

Secs. 13 to 14, all, inclusive;

Secs. 18 to 20, all, inclusive;

Sec. 22, W½;

Secs. 23 to 28, all, inclusive;

Secs. 30 to 32, all, inclusive;

Secs. 34 to 35, all, inclusive.

T. 3 N., R. 14 E.,

Secs. 1 to 2, all, inclusive;

Secs. 3 to 4, those portions lying east of the Sheephole Valley Wilderness Area, inclusive;

Sec. 10, that portion lying east of the Sheephole Valley Wilderness Area;

Secs. 11 to 13, all, inclusive;

Secs. 14 to 15, those portions lying east of the Sheephole Valley Wilderness Area, inclusive;

Sec. 23, that portion lying east of the Sheephole Valley Wilderness Area;

Sec. 24, all;

Secs. 25 to 26, those portions lying east of the Sheephole Valley Wilderness Area, inclusive;

Sec. 36, that portion of NW¼ lying east of the Sheephole Valley Wilderness Area.

T. 4 N., R. 14 E.,

Secs. 6 to 8, all, inclusive;

Secs. 10 to 12, all, inclusive;

Secs. 14 to 15, all, inclusive;

Secs. 17 to 18, all, inclusive;

Sec. 20, that portion lying northeasterly of the Sheephole Valley Wilderness Area;

Secs. 21 to 24, all, inclusive;

Sec. 25, that portion lying northwesterly of the Cadiz Dunes Wilderness Area;

Secs. 26 to 28, all, inclusive;

Sec. 29, that portion lying northeasterly of the Sheephole Valley Wilderness Area;

Secs. 33 to 35, all, inclusive.

T. 5 N., R. 14 E.,

Secs. 1 to 4, all, inclusive;

Secs. 6 to 7, all, inclusive;

Sec. 10, all;

Sec. 11, E½NE¼NE¼, W½NE¼, NW¼, and S½;

Sec. 12, all;

Secs. 14 to 15, all, inclusive;

Secs. 30 to 31, all, inclusive.

T. 2 N., R. 15 E.,

Secs. 4 to 5, all, inclusive;

Secs. 6 to 8, those portions lying northeasterly of the Sheephole Valley Wilderness Area, inclusive.

T. 3 N., R. 15 E.,

Sec. 15, that portion lying west of the Cadiz Dunes Wilderness Area;

Secs. 18 to 20, all, inclusive;

Sec. 22, that portion lying west of the Cadiz Dunes Wilderness Area;

Secs. 25 to 28, all, inclusive;

Secs. 30 to 32, all, inclusive;

Sec. 34, N½;

Sec. 35, N½ and SE¼.

T. 4 E., R. 15 E.,

Secs. 1 to 4, all, inclusive;

Sec. 5, all except for railroad rights-of-way;

Secs. 6 to 8, all, inclusive;

Sec. 9, all except for railroad rights-of-way;

Secs. 10 to 15, all, inclusive;

Secs. 18 to 21, all, inclusive;

Secs. 22 to 25, those portions lying northwesterly or northeasterly of the Cadiz Dunes Wilderness Area, inclusive;

Secs. 28 to 30, those portions lying northwesterly or northeasterly of the Cadiz Dunes Wilderness Area, inclusive;

Sec. 32, that portion lying northeasterly of the Cadiz Dunes Wilderness Area.

T. 5 N., R. 15 E.,

Secs. 1 to 4, all, inclusive;

Secs. 6 to 7, all, inclusive;

Sec. 9, SE¼SE¼;

Secs. 10 to 15, all, inclusive;

Secs. 19 to 35, all, inclusive.

T. 3 N., R. 16 E.,

Sec. 3, that portion lying northeasterly of the pipeline authorized by CACA 14013 and lying northwesterly of the Old Woman Mountains Wilderness Area.

T. 4 N., R. 16 E.,

Secs. 4 to 5, those portions lying southwesterly of the Old Woman Mountains Wilderness Area, inclusive;

Secs. 6 to 8, all, inclusive;

Sec. 9, that portion lying southwesterly of the Old Woman Mountains Wilderness Area;

Sec. 16, that portion lying southwesterly of the Old Woman Mountains Wilderness Area;

Secs. 17 to 20, all, inclusive;

Secs. 21 to 22, those portions lying southwesterly of the Old Woman Mountains Wilderness Area, inclusive;

Secs. 27, that portion lying southwesterly of the Old Woman Mountains Wilderness Area;

Sec. 28, all;

Sec. 29, all except for that portion contained in railroad right-of-way containing 17 acres;

Secs. 30 to 32, those portions lying northeasterly of the Cadiz Dunes Wilderness Area, inclusive;

Sec. 33, that portion lying northeasterly of the Cadiz Dunes Wilderness Area except for that portion contained in railroad right-of-way containing 14.55 acres;

Sec. 34, that portion lying southwesterly of the Old Woman Mountains Wilderness Area.

T. 5 N., R. 16 E.,

Secs. 6 to 7, those portions lying westerly of the Old Woman Mountains Wilderness Area, inclusive;

Secs. 18 to 20, those portions lying westerly of the Old Woman Mountains Wilderness Area, inclusive;

Sec. 29, that portion lying westerly of the Old Woman Mountains Wilderness Area;

Secs. 30 to 31, all, inclusive;

Sec. 32, that portion lying westerly of the Old Woman Mountains Wilderness Area.

Northern Expansion Area

T. 6 N., R. 7 E.,

Sec, 12, all.

T. 7 N., R. 7 E.,

Sec. 24, all.

The areas described aggregate 365,906 acres, more or less.

2. Federally owned mineral estate and non-federally owned surface estate.

Subject to valid existing rights, the following described federally owned mineral estate is hereby withdrawn from settlement, sale, location or entry under the public land laws, including the mining laws, and to the operations of the mineral leasing laws and the Materials Act of 1947:

All Are San Bernardino Meridian

Southern Expansion Area

T. 2 N., R. 9 E.,

Sec. 26, N¼NW¼SW¼SW¼;

Sec. 27, W½SE¼SE¼SE¼;

Sec. 35, N½NE¼NE¼NE¼ and S½SW¼NW¼NE¼.

Eastern Expansion Area

T. 5 N., R. 12 E.,

Sec. 5, lot 1 of NE¼, W½ of lot 1 of NW¼, lots 5 and 6 inclusive, SE¼NW¼, and S½.

The areas described aggregate 507 acres, more or less.

In the event, the non-federally owned surface estate, of the approximately 507 acres described above, returns to public ownership, those lands would be subject to the terms and conditions of this withdrawal as described above.

3. Non-federally owned surface and mineral estate.

The following described non-federally owned lands are located within the proposed boundaries of the proposed withdrawal areas:

(a) Privately owned surface and mineral estate:

All Are San Bernardino Meridian

Western Expansion Area

T. 5 N., R. 2 E.,

Sec. 36, all.

T. 6 N., R. 2 E.,

Sec. 36, all.

T. 4 N., R. 3 E.,

Sec. 10, S½N½ and S½;

Sec. 11, SE¼;

Sec. 12, SW¼;

Sec. 13, N½.

T. 5 N., R. 3 E.,

Sec. 1, all;

Sec. 36, N½ and SE¼.

T. 6 N., R. 3 E.,

Sec. 1, S½ of lot 4;

Sec. 4, that land described by metes and bounds in patent number 04-67-0117 and containing 180.445 acres, more or less;

Secs. 10 to 11, that land described by metes and bounds in patent number 04-68-0173 and containing 20.104 acres, more or less, inclusive;

Sec. 25, all;

Sec. 31, that land described by metes and bounds in patent number 994392 and containing 41.322 acres, more or less;

Sec. 36, all.

T. 4 N., R. 4 E.,

Sec. 16, N½ and SE¼;

Sec. 18, S½;

Sec. 36, all.

T. 5 N., R. 4 E.,

Sec. 1, all;

Sec. 12, E½NE¼ and N½SE¼;

Sec. 13, W½NW¼, west 20 rods of the E½NW¼, and W½W½SW¼;

Sec. 17, NE¼;

Sec. 25, lots 1 to 8, inclusive, and E½SE¼.

T. 6 N., R. 4 E.,

Sec. 16, all;

Sec. 25, all;

Secs. 27 to 28, that land described by metes and bounds in patent numbers 24783, 38438, and 38980, and containing 151.250 acres, more or less, inclusive;

Sec. 36, SE¼.

T. 3 N., R. 5 E.,

Sec. 4, W½NW¼NE¼SW¼, NW¼NE¼SW¼, W½SE¼NE¼SW¼, E½NE¼SW¼SW¼, W½NE¼SW¼SW¼, E½SW¼SW¼SW¼, W½SE¼SW¼SW¼, and W½SE¼SE¼SW¼;

Sec. 9, W½NW¼NW¼NW¼, E½SE¼SW¼NW¼, E½NW¼SE¼NW¼, and W½SW¼SE¼NW¼;

Sec. 12, SE¼NE¼SE¼, W½W½NE¼SE¼, NW¼NE¼NW¼SE¼, SE¼SE¼NW¼SE¼, W½W½NW¼SE¼, E½E½SW¼SE¼, SW¼SW¼SE¼, N½SE¼SE¼, SW¼SE¼SE¼, and E½SE¼SE¼SE¼.

T. 4 N., R. 5 E.,

Sec. 1, all;

Sec. 36, all.

T. 5 N., R. 5 E.,

Sec. 6, SE¼SE¼;

Sec. 7, lot 5;

Sec. 9, all;

Sec. 17, all;

Sec. 21, all;

Sec. 29, all;

Sec. 33, all.

Southern Expansion Area

T. 2 N., R. 9 E.,

Sec. 26, N½NW¼SW¼SW¼;

Sec. 27, W½SE¼SE¼SE¼;

Sec. 34, N½NE¼NE¼NE¼, E½SW¼SW¼NE¼, E½SE¼SW¼NE¼, S½N½SE¼NE¼, N½S½SE¼NE¼, S½SW¼SE¼NE¼, W½NE¼NE¼SW¼, E½SE¼NE¼SW¼, S½S½, E½W½NW¼SE¼, E½NW¼SE¼, and W½SW¼NE¼SE¼;

Sec. 35, N½NE¼NE¼NE¼, S½SW¼NE¼NE¼, and S½;

Sec. 36, all.

T. 2 N., R. 10 E.,

Sec. 36, all.

Eastern Expansion Area

T. 4 N., R. 11 E.,

Sec. 13, all.

T. 5 N., R. 11 E.,

Sec. 36, all.

T. 6 N., R. 11 E.,

Sec. 35, that portion lying south of the Historic Route 66 Corridor.

T. 3 N., R. 12 E.,

Sec. 36, that portion lying west of the boundary of the Sheephold Valley Wilderness Area.

T. 4 N., R. 12 E.,

Sec. 9, all;

Sec. 13, all;

Secs. 16 to 17, all, inclusive;

Secs. 18 to 19, that land described by metes and bounds in patent numbers 973412 and 968382, and containing 82.310 acres, more or less, inclusive;

Sec. 22, all;

Sec. 36, all.

T. 5 N., R. 12 E.,

Sec. 1, all;

Secs. 3, 4, 10, and 11, all the lands conveyed to U. S. Gypsum Company by patent number 1000677, containing 480 acres, inclusive;

Sec. 5, lot 1 of NE¼, W½ of lot 1 of NW¼, W½ of lot 2 of NE¼, W½ of lot 2 of NW¼, and S½;

Secs. 8, 17, 19, 20, 29, and 30, all the lands conveyed to U. S. Gypsum Company by patent number 1000678, containing 1, 342.40 acres, inclusive;

Sec. 16, all;

Sec. 28, SE½;

Sec. 36, all.

T. 4 N., R. 13 E.,

Sec. 5, all;

Sec. 16, all.

T. 5 N., R. 13 E.,

Sec. 1, all;

Sec. 5, all;

Sec. 9, all;

Sec. 13, all;

Secs. 16 to 17, all, inclusive;

Sec. 21, all;

Sec. 22, E½;

Sec. 29, all;

Sec. 33, all;

Sec. 36, SW½.

T. 3 N., R. 14 E.,

Sec. 36, that portion lying east of the Sheephole Valley Wilderness Area.

T. 4 N., R. 14 E.,

Secs. 1 to 5, all, inclusive;

Sec. 9, all;

Sec. 13, all;

Sec. 16, all;

Sec. 36, that portion lying east of the Sheephole Valley Wilderness Area.

T. 5 N., R. 14 E.,

Sec. 5, all;

Secs. 8 to 9, all, inclusive;

Sec. 11, W½NE¼NE¼ and SE¼NE¼;

Sec. 13, all;

Secs. 16 to 29, all, inclusive;

Secs. 32 to 36, all, inclusive.

T. 3 N., R. 15 E.,

Sec. 17, all;

Sec. 21, all;

Sec. 29, all;

Sec. 33, all;

Sec. 34, S½.

T. 4 N., R. 15 E.,

Secs. 16 to 17, all, inclusive;

Sec. 33, that portion lying northwesterly of the Sheephole Valley Wilderness Area.

T. 5 N., R. 15 E.,

Sec. 5, all;

Sec. 8, all;

Sec. 9, N½, SW¼, N½SE¼, and SW¼SE¼;

Secs. 17 to 18, all, inclusive.

T. 4 N., R. 16E

Sec. 29, that portion contained in railroad right-of-way containing 17 acres;

Sec. 33, that portion contained in railroad right-of-way containing 14.55 acres.

T. 5 N., R. 16 E.,

Sec. 29, that portion lying southwesterly of the Old Woman Mountains Wilderness Area.

Northern Expansion Area

T. 6 N., R. 7 E.,

Sec. 1, all;

Sec. 13, all.

The areas described aggregate 64,407 acres, more or less.

(b) State of California owned surface and mineral estate:

All Are San Bernardino Meridian

Western Expansion Area

T. 4 N., R. 3 E.,

Sec. 1, NE¼SW¼ and S½SW¼;

Sec. 3, SW¼NE¼, S½NW¼, and N½S½;

Sec. 4, N½SE¼;

Sec. 14, N½;

Sec. 15, S½.

T. 6 N., R. 3 E.,

Sec. 16, all.

T. 4 N., R. 4 E.,

Sec. 16, SW¼;

Sec. 19, E½E½;

Sec. 20, S½;

Sec. 28, S½;

Sec. 29, E½.

T. 5 N., R. 5 E.,

Sec. 16, all.

Southern Expansion Area

T. 2 N., R. 10 E.,

Sec. 16, all.

Eastern Expansion Area

T. 5 N., R. 13 E.,

Sec. 36, N½ and SE¼.

T. 3 N., R. 15 E.,

Sec. 16, that portion lying southwesterly of the Cadiz Dunes Wilderness Area.

T. 5 N., R. 15 E.,

Sec. 16, all;

Sec. 36, all.

Northern Expansion Area

T. 7 N., R. 7 E.,

Sec. 36, all.

The areas described aggregate 7,779 acres, more or less.

In the event that these non-federally owned lands return to public ownership in the future, they would be subject to the terms and conditions described above in “1. Federally owned surface and mineral estate.”

The purpose of the proposed legislative withdrawal is to withdraw and reserve the lands for use as a military training range, involving live-fire exercises, necessary for national security. The legislative withdrawal would provide sufficient area for realistic integrated training to a Marine Expeditionary Brigade (MEB) sized Marine Air Ground Task Force, the USMC's premier force for responding to smaller scale contingencies. Effective training of MEBs is critical to ensuring the full spectrum of military operations. The withdrawal would be established by an Act of Congress, and approved by the President. The duration of the legislative withdrawal would be determined by Congress. The Department of the Navy has indicated that the use of a right-of-way or cooperative agreement would not provide adequate authorization for safety and control of access for the use of these lands due to the broad scope of military training exercises.

The USMC analyzed alternative sites in three regions of the United States (i.e., Middle Atlantic Coast—North Carolina and Virginia; Gulf of Mexico—Florida and Louisiana; and Southwest—California and Arizona). The USMC concluded that expanding the USMC's MCAGCC, located in Twentynine Palms, California was the only reasonable and feasible option. The lands hereinabove described, have been selected by the USMC for the proposed legislative withdrawal, because they are located adjacent to the existing exterior boundaries of the USMC's MCAGCC, located in Twentynine Palms, California. The application and the records relating to the application can be examined by interested persons at the BLM Barstow Field Office, 2601 Barstow Road, Barstow, California 92311.

On or before December 15, 2008, all persons who wish to submit comments, suggestions, or objections in connection with the proposed legislative withdrawal may present their views in writing to the BLM, Field Manager, Barstow Field Office, 2601 Barstow Road, Barstow, California 92311.

Comments, including names and street addresses of respondents, will be available for public review at the BLM Barstow Field Office at the address above during regular business hours.

Before including your address, telephone number, e-mail address, or other personal identifying information in your comment, you should be aware that your entire comment—including your personal identifying information—may be made publicly available at any time. While you can ask us in your comment to withhold from public review your personal identifying information from public review, we cannot guarantee that we will be able to do so.

This withdrawal proposal will be processed in accordance with the regulations set forth in 43 CFR part 2300.

Until September 15, 2010, the lands will be segregated as specified above unless the withdrawal application is denied or canceled or the withdrawal is approved prior to that date. Land uses currently authorized or permitted may continue during the segregation period. If the proposed legislative withdrawal has been submitted to Congress but not enacted into law by the end of the 2-year segregation period, consideration will be given to entertaining an application for a temporary withdrawal in aid of pending legislation.

During the segregation period, BLM may, after consulting with the USMC, allow uses of a temporary nature that are compatible with the military purposes for which the land is being withdrawn.

(Authority: 43 CFR 2310.3-1(b)(1))

Dated: September 9, 2008.
Thomas Pogacnik,
Acting Deputy State Director, Natural Resources (CA-930), Bureau of Land Management.

[FR Doc. E8-21397 Filed 9-12-08; 8:45 am]

BILLING CODE 3810-FF-P